NUCLEAR REGULATORY COMMISSION

[NRC-2014-0184]

Proposed Revision to Chilled Water; Correction

AGENCY: Nuclear Regulatory Commission.

ACTION: Standard Review Plan; correction.

SUMMARY: The U.S. Nuclear Regulatory Commission (NRC) is correcting a notice that was published in the Federal Register (FR) on August 5, 2014, that requested public comment on NUREG-0800, “Standard Review Plan for the Review of Safety Analysis Reports for Nuclear Power Plants: LWR Edition,” Section 9.2.7, Chilled Water.” This action is being taken to correct the Agencywide Documents Access and Management System (ADAMS) accession number for NUREG-0800, Section 9.2.7.

DATES: This correction is effective immediately.

ADDRESSES: Please refer to Docket ID NRC-2014-0184 when contacting the NRC about the availability of information regarding this document. You may obtain publicly-available information related to this document using any of the following methods:

• Federal Rulemaking Web site: Go to http://www.regulations.gov and search for Docket ID NRC-2014-0184. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft Standard Review Plan (SRP) Section 9.2.7, “Chilled Water” Revision 1 is available electronically in ADAMS under Accession No. ML14093A350.

• NRC's PDR: You may examine and purchase copies of public documents at the NRC's PDR, Room O1-F21, One White Flint North, 11555 Rockville Pike, Rockville, Maryland 20852.

FOR FURTHER INFORMATION CONTACT: Jonathan DeGange, Office of New Reactors, U.S. Nuclear Regulatory Commission, Washington, DC 20555-0001; telephone: 301-415-6096; email: Jonathan.Degange@nrc.gov.

SUPPLEMENTARY INFORMATION: In the FR on August 5, 2014, in FR Doc. 2014-18515, on page 45498, in the second bullet under the heading “I. Obtaining Information and Submitting Comments,” the ADAMS accession number “ML14091B061” is corrected to read “ML14093A350.” In the same sentence “Section 9.27” is corrected to read “Section 9.2.7.”

Dated at Rockville, Maryland, this 15 day of August 2014.
For the Nuclear Regulatory Commission.
Cindy Bladey,
Chief, Rules, Announcements, and Directives Branch, Office of Administration.

[FR Doc. 2014-19752 Filed 8-19-14; 8:45 am]

BILLING CODE 7590-01-P